DEPARTMENT OF ENERGY

Federal Energy Regulatory Commission

[Docket No. ER02-998-000, et al.]

MidAmerican Energy Company, et al.; Electric Rate and Corporate Regulation Filings

February 15, 2002.

Take notice that the following filings have been made with the Commission. Any comments should be submitted in accordance with Standard Paragraph E at the end of this notice.

1. MidAmerican Energy Company

[Docket No. ER02-998-000]

Take notice that on February 11, 2002, MidAmerican Energy Company (MidAmerican) filed with the Federal Energy Regulatory Commission (Commission) a Notice of Cancellation pursuant to Section 35.15 of the Commission's regulations. MidAmerican requests that the following rate schedule be cancelled effective as of January 31, 2002.

MidAmerican a copy of this filing has been sent to the City of Livermore, the Iowa Utilities Board, the Illinois Commerce Commission and the South Dakota Public Utilities Commission.

Comment Date: March 4, 2002.

2. Mint Farm Generation, LLC

[Docket No. EG02-91-000]

Take notice that on February 12, 2002, Mint Farm Generation, LLC (Mint Farm Generation) filed with the Federal Energy Regulatory Commission an application for determination of exempt wholesale generator status pursuant to part 365 of the Commission's regulations.

Mint Farm Generation proposes to own a 298 MW generating facility located in the city of Longview, Washington (Facility). The proposed Facility is expected to commence commercial operation in June, 2003. All output from the Facility will be sold by Mint Farm exclusively at wholesale.

Comment Date: March 8, 2002.

3. PacifiCorp Power Marketing, Inc., PacifiCorp

[Docket Nos. ER95-1096-022, ER97-2801-003]

Take notice that on February 12, 2002, PacifiCorp Power Marketing, Inc. and PacifiCorp tendered for filing an updated generation market power study in support of sales of electric energy at market based prices.

Copies of this filing were supplied to the Washington Utilities and Transportation Commission and the Public Utility Commission of Oregon.

Comment Date: March 5, 2002.

4. Midwest Independent Transmission System Operator, Inc.

[Docket No. ER02-107-001]

Take notice that on February 12, 2002, the Midwest Independent Transmission System Operator, Inc. (Midwest ISO) tendered for filing, in compliance with the Order of the Federal Energy Regulatory Commission (Commission) in Midwest Independent Transmission System Operator Inc., 97 FERC ¶ 61,270 (2001) and pursuant to Section 205 of the Federal Power Act (FPA), 16 USC 824d (2000) and Section 385.205 of the Commission's regulations, 18 CFR 385.205 (2001), proposed revisions to the Midwest ISO Agreement of the Transmission Facilities Owners To Organize The Midwest Independent Transmission System Operator, Inc. (Midwest ISO Agreement), First Revised Rate Schedule FERC No. 1.

Pursuant to the Commission's regulations, 18 CFR 385.2010 (2001), the Midwest ISO has served this filing on all parties on the official service list in this proceeding. In addition, the Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's website at www.midwestiso.org under the heading “Filings to FERC” for other interested parties in this matter. The Midwest ISO will provide hard copies to any interested parties upon request.

Comment Date: March 5, 2002.

5. GNE, LLC

[Docket No. ER02-159-003]

Take notice that on February 12, 2002, GNE, LLC (GNE) tendered for filing with the Federal Energy Regulatory Commission (Commission) a revised tariff sheets with respect to the Commission's Order issued December 19, 2001 herein granting its application for authorization to sell and to broker electric power at market based rates, and the Commission's Order issued January 30, 2002, herein directing GNE to resubmit revised tariff sheets.

Comment Date: March 5, 2002.

6. Armstrong Energy Limited Partnership, LLLP, Troy Energy, LLC

[Docket Nos. ER02-300-003, ER02-301-003]

Take notice that on February 12, 2002, Armstrong Energy Limited Partnership, LLLP (Armstrong) and Troy Energy, LLC (Troy), have modified their January 18, 2002 deficiency correction by modifying the price cap and treating the rate authorizations as independent rate schedules.

Copies of the filing were served upon Ohio Public Utilities Commission, the Pennsylvania Public Service Commission, the North Carolina Utilities Commission, and the Virginia State Corporation Commission.

Comment Date: March 5, 2002.

7. Duke Energy Enterprise, LLC

[Docket No. ER02-565-001]

Take notice that on February 12, 2002, Duke Energy Enterprise, LLC filed a notice of status change with the Federal Energy Regulatory Commission in connection with the pending change in upstream control of Engage Energy America LLC and Frederickson Power L.P. resulting from a transaction involving Duke Energy Corporation and Westcoast Energy Inc.

Copies of the filing were served upon all parties on the official service lists compiled by the Secretary of the Federal Energy Regulatory Commission in these proceedings.

Comment Date: March 5, 2002.

8. Southern California Edison Company

[Docket No. ER02-925-001]

Take notice that on February 13, 2002, Southern California Edison Company (SCE) tendered for filing several corrections to the revisions to its Transmission Owner Tariff (TO Tariff), FERC Electric Tariff, Substitute First Revised Original Volume No. 6, SCE requested in a filing on January 31, 2002 in Docket No. ER02-925-000. The revisions result in a proposed increase in revenues from TO Tariff transmission customers by $63.6 million based on the 12-month period ending December 31, 2002.

Copies of this filing were served upon the Public Utilities Commission of the State of California, the California Independent System Operator Corporation (ISO), the California Electricity Oversight Board, and all ISO-certified Scheduling Coordinators.

Comment Date: March 5, 2002.

9. Unitil Power Corp.

[Docket No. ER02-999-000]

Take notice that on February 11, 2002, Unitil Power Corp. (Unitil Power) tendered for filing with the Federal Energy Regulatory Commission (Commission) a market-based rate tariff, including a form of umbrella service agreement. The proposed market-based rate tariff does not replace Unitil Power's existing market-based rate tariff, FERC Electric Tariff, Volume No. 3, and service provided thereunder will not be affected. Unitil Power requests waiver of the Commission's notice of filing requirements to allow the proposed market-based rate tariff to become effective on March 13, 2002.

A copy of the filing was served upon the New Hampshire Public Utilities Commission.

Comment Date: March 4, 2002.

10. TECO-PANDA Generating Company, L.P.

[Docket No. ER02-1000-000]

Take notice that on February 11, 2002, TECO-PANDA Generating Company, L.P. tendered for filing an application for authorization to sell energy, capacity and ancillary services at market-based rates pursuant to section 205 of the Federal Power Act. A copy of this filing has been served on the Florida Public Service Commission.

Comment Date: March 4, 2002.

11. Michigan Electric Transmission Company LLC

[Docket No. ES02-24-000]

Take notice that on February 13, 2002, Trans-Elect, Inc., on behalf of Michigan Electric Transmission Company LLC (Michigan Electric) submitted an application seeking authorization for Michigan Electric to issue and sell no more than $235 million of secured securities in the form of notes and loan obligations under a credit agreement with banks and other lenders as more fully described in the application.

Comment Date: March 1, 2002.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-4348 Filed 2-22-02; 8:45 am]

BILLING CODE 6717-01-P